ENVIRONMENTAL PROTECTION AGENCY

[EPA-HQ-OPP-2016-0345; FRL-9958-51]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows a July 12, 2016 Federal Register Notice of Receipt of Requests from the registrants listed in Table 2 of Unit II. to voluntarily cancel these product registrations.

DATES: The cancellations are effective March 22, 2017.

FOR FURTHER INFORMATION CONTACT: Michael Yanchulis, Information Technology and Resources Management Division (7502P), Office of Pesticide Programs, Environmental Protection Agency, 1200 Pennsylvania Ave. NW., Washington, DC 20460-0001; telephone number: (703) 347-0237; email address: yanchulis.michael@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2015-0321, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

In the July 12, 2016 notice, EPA indicated that it would issue an order implementing the cancellations, unless the Agency received substantive comments within the 180-day comment period that would merit its further review of these requests, or unless the registrants withdrew their requests. The Agency did not receive any comments on this notice. The registration numbers below were listed in the July 12, 2016 notice and already have been canceled by other FR notices so are not listed in this notice. The products are listed by their cancellation FR notice: (1) Federal Register of June 30, 2016 (81 FR 42702; FRL-9947-16): 100-1249, 524-314, 524-316, 524-329, 524-344, 524-418 and 524-523; and (2) Federal Register of September 21, 2016 (81 FR 64897; FRL-9951-71): 498-197, 1677-205, 1677-206, 1839-85, 1839-102, 1839-128, 1839-138, 1839-188, 4822-554, 5813-28, 5813-33, 5813-36, 5813-41, 5813-54, 5813-56, 5813-83, 6836-18, 6836-19, 6836-28, 6836-30, 6836-41, 6836-48, 6836-68, 6836-74, 6836-87, 6836-89, 6836-108, 6836-163, 6836-167, 6836-204, 6836-205, 6836-206, 6836-231, 6836-267, 6836-268, 6836-269, 47371-47, 47371-52, 47371-53, 47371-59, 47371-71, 47371-87, 67619-15 and 67619-19. Accordingly, EPA hereby issues in this notice a cancellation order granting the requested cancellations. Any distribution, sale, or use of the products subject to this cancellation order is permitted only in accordance with the terms of this order, including any existing stocks provisions.

This notice announces the cancellation, as requested by registrant, of products registered under FIFRA section 3 (7 U.S.C. 136a). These registrations are listed in sequence by registration number in Table 1 of this unit.

Table 1—Product Cancellations
Registration No. | Company No. | Product name | Chemical name
100-1004 | 100 | Demon EC Insecticide | Cypermethrin.
100-1006 | 100 | Probuild TC Termiticide | Cypermethrin.
100-1051 | 100 | Talon-G Rodenticide Bait Pack Pellets with Bitrex | Brodifacoum.
100-1057 | 100 | Talon-G Rodenticide Mini-Pellets with Bitrex | Brodifacoum.
100-1170 | 100 | Optigard ZT Insecticide | Thiamethoxam.
100-1209 | 100 | Abamectin Granular Fire Ant Killer | Abamectin.
100-1302 | 100 | Cypermethrin ME 2.0% Concentrate | Cypermethrin.
100-1303 | 100 | Cypermethrin ME 0.2% RTU | Cypermethrin.
100-1393 | 100 | Hurricane WDG | Metalaxyl-M; Fludioxonil.
100-1512 | 100 | Econem | Pasteuria Usgae—BL1.
228-380 | 228 | Riverdale 565 Selective Herbicide | Cloransulam-methyl.
264-652 | 264 | Rely Herbicide | Glufosinate.
264-663 | 264 | Remove Herbicide | Glufosinate.
264-932 | 264 | Gustafson Lorsban 30 Flowable | Chlorpyrifos.
432-887 | 432 | Chipco Ronstar 50 WP | Oxadiazon.
432-891 | 432 | Chipco 26019 WDG Fungicide | Iprodione.
432-894 | 432 | Chipco Aliette WSP Brand Fungicide | Fosetyl-Al.
432-898 | 432 | Chipco Ronstar G T/L Herbicide | Oxadiazon.
432-1222 | 432 | Prostar 50WP | Flutolanil.
432-1326 | 432 | Dylox 80 SP Nursery Insecticide | Trichlorfon.
432-1336 | 432 | Bayleton 1% Granular Turf and Sod Production Fungicide | Triadimefon.
432-1340 | 432 | Merit 0.3 G Lawn and Garden Insecticide | Imidacloprid.
432-1341 | 432 | Merit 0.15 G Lawn and Garden Insecticide | Imidacloprid.
432-1342 | 432 | Merit 0.25 G Lawn and Garden Insecticide | Imidacloprid.
432-1343 | 432 | Merit 0.35 G Lawn and Garden Insecticide | Imidacloprid.
432-1420 | 432 | Topchoice Select Insecticide | Fipronil.
432-1423 | 432 | Topchoice 0.0143 Plus Turf Fertilizer Insecticide | Fipronil.
432-1425 | 432 | Topchoice 0.00953 Plus Turf Fertilizer Insecticide | Fipronil.
432-1432 | 432 | Compass G Fungicide | Trifloxystrobin.
432-4877 | 432 | Triticonazole 70 WDG Fungicide | Triticonazole.
498-195 | 498 | Champion Sprayon Fire Ant Killer Dust | Deltamethrin.
499-497 | 499 | Whitmire Micro-Gen TC 232 | D-Limonene.
499-519 | 499 | TC 232 W&HH | D-Limonene.
499-20204 | 499 | Babolna Insect Attractant Trap | 2-Cyclopenten-1-one, 2-hydroxy-3-methyl-.
1448-172 | 1448 | M-5-2 | 2-(Thiocyanomethylthio)benzothiazole; Methylene bis(thiocyanate).
1677-196 | 1677 | Eco 2000-XP Freshbait | Boric acid.
1839-49 | 1839 | CD 3.2 Detergent/Disinfectant | Quaternary ammonium compounds.
1839-50 | 1839 | CD 1.6 Detergent/Disinfectant | Quaternary ammonium compounds.
3525-71 | 3525 | Utikem Black Algae Killer | Busan 77.
3525-91 | 3525 | Coastal Mint Disinfectant | Quaternary ammonium compounds.
3525-96 | 3525 | Jolt Pool Shock Treatment for Control of Algae | Lithium hypochlorite.
3525-109 | 3525 | Algaecide & Pool Conditioner | Busan 77.
5383-176 | 5383 | Fungitrol 400SE Fungicide | Carbamic acid, butyl-, 3-iodo-2-propynyl ester.
5383-188 | 5383 | Nuosept 515RX Preservative | 2-Methyl-3(2H)-isothiazolone; 5-Chloro-2-methyl-3(2H)-isothiazolone.
5383-189 | 5383 | Nuosept 220 Preservative | 2,2-Dibromo-3-nitrilopropionamide.
5813-107 | 5813 | Sonic | Sodium hypochlorite.
6836-25 | 6836 | Barquat 4250 | Quaternary ammonium compounds.
6836-180 | 6836 | Lonza Rd-10 Disinfectant Sanitizer Deodorant | Quaternary ammonium compounds.
6836-201 | 6836 | Barquat MM-55I | Quaternary ammonium compounds.
6836-284 | 6836 | Lonza Formula LNZ-64 | Quaternary ammonium compounds; 1,3-Propanediamine, N-(3-aminopropyl)-N-dodecyl-.
7173-293 | 7173 | Chlorophacinone Refillable Bait Station | Chlorophacinone.
10807-162 | 10807 | Misty Fog Plus Fogger | Pyrethrins; Permethrin; Piperonyl butoxide.
10807-200 | 10807 | Misty Repco Kill IV | Bromacil; 2,4-D, 2-ethylhexyl ester.
10807-201 | 10807 | Misty Repco Kill VF | Bromacil; 2,4-D, 2-ethylhexyl ester.
10807-439 | 10807 | R Value's Roach Kil | Boric acid.
10807-440 | 10807 | Mop Up | Boron sodium oxide (B8Na2O13), tetrahydrate (12280-03-4).
10807-441 | 10807 | Borid Sewer Treatment | Borax.
10807-452 | 10807 | Drax Roach D-Stroy Mix | Boric acid.
10807-453 | 10807 | Drax Roach Assault PGF | Boric acid.
10807-455 | 10807 | Borid Barrier with Boric Acid | Boric acid.
10807-456 | 10807 | Impede Roach Bait with Growth Inhibitor Kills and Controls Cockroaches | Pyriproxyfen.
10807-457 | 10807 | Invader II with Propoxur | Propoxur.
10807-458 | 10807 | Drax Liquid Ant Killer—SWT | Boric acid.
10807-459 | 10807 | Drax Liquid Ant Killer with Nylar and Boric Acid | Pyriproxyfen; Boric acid.
10807-460 | 10807 | Drax Ant Kill Gel RBA | Boric acid.
10807-461 | 10807 | Drax Ant Kil Gel 2X RBA | Boric acid.
10807-463 | 10807 | Drax Granular Bait with Boric Acid | Boric acid.
10807-464 | 10807 | Drax 2X Granular Bait with Boric Acid | Boric acid.
10807-465 | 10807 | Drax 2X Granular Bait with Boric Acid & Nylar | Pyriproxyfen; Boric acid.
10807-468 | 10807 | Country Vet Roach Kil | Boric acid.
10807-470 | 10807 | Country Vet Fogger with IGR | Prallethrin; Esfenvalerate, Pyriproxyfen.
10807-471 | 10807 | Country Vet Fogger with Pyrethrins | Pyrethrins; MGK 264; Piperonyl butoxide.
35935-68 | 35935 | Oxadiazon Technical | Oxadiazon.
35935-97 | 35935 | Flumioxazin Technical | Flumioxazin.
40849-59 | 40849 | Enforcer Next Day Grass & Weed Killer Concentrate | Diquat dibromide.
66222-32 | 66222 | Mana Cotoran 4l | Fluometuron.
66222-65 | 66222 | Apollo 42% Ovicide/Miticide | Clofentezine.
66330-260 | 66330 | Flomet 4L | Fluometuron.
69681-30 | 69681 | Clor Mor Spa Essence Tabs | Sodium dichloro-s-triazinetrione.
70596-12 | 70596 | Mecoprop-P Technical Acid | Mecoprop-P.
81880-13 | 81880 | NC-398 WG | Halosulfuron-methyl; Dicamba, sodium salt.
81880-14 | 81880 | Achiva Herbicide | Halosulfuron-methyl.
81880-17 | 81880 | NC-319 75WG T | Halosulfuron-methyl.
81880-19 | 81880 | MON 12037 Herbicide | Halosulfuron-methyl.
81880-21 | 81880 | MON 12000 Herbicide | Halosulfuron-methyl.
81880-22 | 81880 | Sempra CA Herbicide | Halosulfuron-methyl.
81880-23 | 81880 | GWN-9843 | Halosulfuron-methyl.
81927-15 | 81927 | Alligare Picloram + D RTU | Picloram, triisopropanolamine salt; 2,4-D, triisopropanolamine salt.
81927-17 | 81927 | Alligare Picloram K | Picloram-potassium.
81927-21 | 81927 | Alligare Quinclorac 75 WDG | Quinclorac.
90924-6 | 90924 | Bactron K-55W Microbiocide | Formaldehyde.
AL080004 | 59639 | Sumagic Plant Growth Regulator | Uniconazole P.
AR030011 | 100 | Dual Magnum Herbicide | S-Metolachlor.
AR050006 | 66222 | Bifenthrin Nursery G | Acephate.
AR130007 | 100 | Halex GT Herbicide | Mesotrione; Glyphosate; S-Metolachlor.
AR140001 | 87290 | Willowood Clomazone 3ME | Clomazone.
AR830015 | 400 | Comite Agricultural Miticide | Propargite.
AR930004 | 59639 | Select 2EC Herbicide | Clethodim.
CA030012 | 100 | Clinch Ant Bait | Abamectin.
CA040004 | 62719 | Lorsban 50W Insecticide In Water Soluble Packets | Chlorpyrifos.
CA040024 | 8033 | Topsin M WSB | Thiophanate-methyl.
CA050015 | 62719 | GF-120 NF Naturalyte Fruit Fly Bait | Spinosad.
CA050020 | 8033 | Topsin M 70WP | Thiophanate-methyl.
CA060008 | 2935 | Wilbur-Ellis Dusting Sulfur | Sulfur.
CA060013 | 62719 | Intrepid 2F | Methoxyfenozide.
CA070013 | 21164 | Akta Klor 25 | Sodium chlorite.
CA140001 | 70506 | Manzate Pro-Stick Fungicide | Mancozeb.
CA140003 | 70506 | Penncozeb 4FL Flowable Fungicide | Mancozeb.
CA960027 | 50534 | Bravo 720 | Chlorothalonil.
CA990010 | 62719 | Transline | Clopyralid, monoethanolamine salt.
CO100005 | 59639 | Chateau Herbicide WDG | Flumioxazin.
CT070001 | 62719 | Dithane DF Rainshield | Mancozeb.
CT070002 | 62719 | Goal 2XL | Oxyfluorfen.
DE090001 | 2724 | Zoecon Altosid Liquid Larvicide Concentrate | S-Methoprene.
DE100001 | 62719 | Starane Ultra | Fluroxypyr 1-methylheptyl ester.
FL030002 | 59639 | Regiment Herbicide | Bispyribac-sodium.
FL110001 | 59639 | Arena 50 WDG Insecticide | Clothianidin.
FL140008 | 100 | Revus Fungicide | Mandipropamide Technical.
GA020006 | 59639 | Regiment Herbicide | Bispyribac-sodium.
GA940004 | 62719 | Dithane DF Agricultural Fungicide | Mancozeb.
HI080003 | 61842 | Lime-Sulfur Solution | Lime sulfur.
ID020006 | 8033 | Topsin M WSB | Thiophanate-methyl.
ID080003 | 71711 | Moncut 70 DF Fungicide | Flutolanil.
ID090009 | 66222 | Abba 0.15EC | Abamectin.
ID100002 | 59639 | Chateau WDG Herbicide | Flumioxazin.
ID150007 | 62719 | Transform WG | Sulfoxaflor.
ID980010 | 2935 | Supreme Oil | Mineral oil.
IL110002 | 89459 | Prentox Synpren-Fish Toxicant | Piperonyl butoxide; Rotenone; Cube Resins other than rotenone.
IN080002 | 70506 | Dupont Manzate Pro-Stick Fungicide | Mancozeb.
IN960003 | 62719 | Dithane DF Agricultural Fungicide | Mancozeb.
KS050007 | 34704 | Atrazine 4L Herbicide | Atrazine.
KS150001 | 100 | Halex GT Herbicide | Mesotrione; Glyphosate; S-Metolachlor.
KY030002 | 62719 | Dithane DF Rainshield | Gas cartRidge; Mancozeb.
KY080001 | 70506 | Dupont Manzate Pro-Stick Fungicide | Mancozeb.
LA070007 | 62719 | Goal 2XL | Oxyfluorfen.
LA070008 | 62719 | Goal 2XL | Oxyfluorfen.
LA110001 | 66222 | Galigan 2E | Oxyfluorfen.
LA130001 | 100 | Halex GT Herbicide | Mesotrione; Glyphosate; S-Metolachlor.
LA140003 | 87290 | Willowood Clomazone 3ME | Clomazone.
LA150003 | 100 | Halex GT Herbicide | Mesotrione; Glyphosate; S-Metolachlor.
LA990012 | 59639 | Select 2EC Herbicide | Clethodim.
MA020003 | 62719 | Dithane DF Rainshield | Mancozeb.
MA080001 | 70506 | Dupont Manzate Pro-Stick Fungicide | Mancozeb.
MD090004 | 2724 | Zoecon Altosid Liquid Larvicide Concentrate | S-Methoprene.
MD950002 | 62719 | Dithane DF Rainshield | Mancozeb.
ME130004 | 81880 | GWN-1715 | Pyridaben.
MN000004 | 100 | Aatrex 4L Herbicide | Atrazine.
MN080004 | 8033 | Topsin M WSB | Thiophanate-methyl.
MN080011 | 59639 | Sureguard Herbicide | Flumioxazin.
MO100004 | 89459 | Prentox Prenfish Toxicant | Rotenone; Cube Resins other than rotenone.
MO140003 | 87290 | Willowood Clomazone 3ME | Clomazone.
MO150002 | 100 | Halex GT Herbicide | Mesotrione; Glyphosate; S-Metolachlor.
MO950004 | 62719 | Dithane DF Rainshield | Mancozeb.
MO970003 | 59639 | Select 2EC Herbicide | Clethodim.
MS020016 | 62719 | Goal 2XL Herbicide | Oxyfluorfen.
MS140004 | 87290 | Willowood Clomazone 3ME | Clomazone.
MS830024 | 400 | Comite Agricultural Miticide | Propargite.
MS930008 | 59639 | Select 2EC Herbicide | Clethodim.
MT070002 | 10163 | Onager Miticide | Hexythiazox.
NC020002 | 62719 | Goal 2XL Herbicide | Oxyfluorfen.
NC020005 | 62719 | Dithane DF Rainshield | Mancozeb.
NC020006 | 59639 | Select 2EC Herbicide | Clethodim.
NC120007 | 100 | Gramoxone SL 2.0 | Paraquat dichloride.
NV020003 | 62719 | Goal 2XL Herbicide | Oxyfluorfen.
NV070001 | 10163 | Onager Miticide | Hexythiazox.
NV100002 | 59639 | Chateau Herbicide WDG | Flumioxazin.
NY050001 | 100 | Dual Magnum | S-Metolachlor.
NY070002 | 8033 | Topsin M WSB | Thiophanate-methyl.
NY090001 | 61842 | Whitecap SC Aquatic Herbicide | Fluridone.
NY090004 | 100 | Dual Magnum Herbicide | S-Metolachlor.
NY140002 | 352 | Dupont Aproach Fungicide | Picoxystrobin.
OK100001 | 8033 | F4688 50 WSP Insecticide Termiticide | Acetamiprid; Bifenthrin.
OK150004 | 100 | Halex GT Herbicide | Mesotrione; Glyphosate; S-Metolachlor.
OR020024 | 62719 | Goal 2XL Herbicide | Oxyfluorfen.
OR020025 | 62719 | Goal 2XL Herbicide | Oxyfluorfen.
OR020026 | 62719 | Goal 2XL Herbicide | Oxyfluorfen.
OR070008 | 10163 | Onager Miticide | Hexythiazox.
OR070023 | 71512 | Beleaf 50SG Insecticide | Flonicamid.
OR080021 | 66222 | Abba 0.15EC | Abamectin.
OR080035 | 100 | Callisto Herbicide | Mesotrione.
OR090023 | 66222 | Prometryn 4L | Prometryn.
OR100010 | 100 | Callisto Herbicide | Mesotrione.
OR110001 | 87290 | Willowood Pronamide 50 WSP | Propyzamide.
OR110002 | 87290 | Willowood Pronamide 50 WSP | Propyzamide.
OR110010 | 87290 | Willowood Oxyflo 2 EC | Oxyfluorfen.
OR110011 | 87290 | Willowood Oxyflo 2 EC | Oxyfluorfen.
OR150010 | 62719 | Transform WG | Sulfoxaflor.
OR990006 | 62719 | Goal 2XL Herbicide | Oxyfluorfen.
OR990010 | 2935 | Supreme Oil | Mineral oil.
OR990036 | 62719 | Goal 2XL Herbicide | Oxyfluorfen.
PA950005 | 62719 | Dithane DF Rainshield | Mancozeb.
PA960005 | 62719 | Goal 2XL Herbicide | Oxyfluorfen.
SC030001 | 59639 | Velocity Herbicide | Bispyribac-sodium.
SC030002 | 62719 | Dithane DF Rainshield | Mancozeb.
SC050004 | 100 | Caparol 4L | Prometryn.
SC070001 | 70506 | Clopyr AG Herbicide | Clopyralid, monoethanolamine salt.
SC130002 | 66222 | Mana Atrazine 90DF | Atrazine.
SC960008 | 62719 | Goal 2XL Herbicide | Oxyfluorfen.
SD090003 | 241 | Pendulum 0.86% Plus Fertilizer | Pendimethalin.
SD090009 | 100 | Princep 4L | Simazine.
SD090010 | 100 | Princep Caliber 90 Herbicide | Simazine.
SD100001 | 7969 | Sharpen Herbicide | Saflufenacil.
SD110001 | 7969 | Integrity Powered By Kixor Herbicide | Saflufenacil; Dimethenamide-P.
TN050007 | 100 | Caparol 4L | Prometryn.
TX030014 | 59639 | Velocity Herbicide | Bispyribac-sodium.
TX090008 | 39039 | 4-Poster-Tickicide | Permethrin.
TX100019 | 70506 | Devrinol 50-DF Selective Herbicide | Napropamide.
TX140001 | 87290 | Willowood Clomazone 3ME | Clomazone.
TX830028 | 400 | Comite Agricultural Miticide | Propargite.
UT040001 | 89459 | Prentox Perm-X UL 4-4 | Permethrin; Piperonyl butoxide.
UT050003 | 89459 | Prentox Perm-X UL 30-30 | Permethrin; Piperonyl butoxide.
VA080003 | 8033 | Topsin M WSB | Thiophanate-methyl.
VA940001 | 62719 | Dithane DF Agricultural Fungicide | Mancozeb.
WA020027 | 62719 | Goal 2XL Herbicide | Oxyfluorfen.
WA040036 | 62719 | Goal 2XL | Oxyfluorfen.
WA060009 | 8033 | Tristar 30 SG Insecticide | Acetamiprid.
WA060015 | 62719 | Accord Concentrate | Glyphosate-isopropylammonium.
WA060021 | 10163 | Onager 1E | Hexythiazox.
WA070005 | 59639 | Chateau Herbicide WDG | Flumioxazin.
WA080004 | 66222 | Abba 0.15EC | Abamectin.
WA080008 | 62719 | Starane Ultra | Fluroxypyr 1-methylheptyl ester.
WA080010 | 62719 | Rally 40WSP | Myclobutanil.
WA090018 | 66222 | Prometryn 4L | Prometryn.
WA980023 | 2935 | Supreme Oil | Mineral oil.
WI070009 | 8033 | Topsin M WSB | Thiophanate-methyl.
WY040003 | 7969 | Basagran Herbicide | Sodium bentazon.

Table 2 of this unit includes the names and addresses of record for all registrants of the products in Table 1 of this unit, in sequence by EPA company number. This number corresponds to the first part of the EPA registration numbers of the products listed in Table 1 of this unit.

Table 2—Registrants of Canceled Products
EPA company No. | Company name and address
100 | Syngenta Crop Protection, LLC, P.O. Box 18300, Greensboro, NC 27419.
228 | Nufarm Americas, Inc., 4020 Aerial Center Parkway, Suite 101, Morrisville, NC 27560.
241 | BASF Corporation, P.O. Box 13528, Research Triangle Park, NC 27709.
264 | Bayer Cropscience LP, P.O. Box 12014, Research Triangle Park, NC 27709.
352 | E. I. Du Pont de Nemours and Company, Chestnut Run Plaza, 974 Centre Road, Wilmington, DE 19805.
400 | MacDermid Agricultural Solutions, Inc., 245 Freight Street, Waterbury, CT 06702.
432 | Bayer Environmental Science, A Division of Bayer Cropscience LP, P.O. Box 12014, Research Triangle Park, NC 27709.
498 | Chase Products Co., P.O. Box 70, Maywood, IL 60153.
499 | BASF Corporation, P.O. Box 13528, Research Triangle Park, NC 27709.
1448 | Buckman Laboratories Inc., 1256 North McLean Blvd., Memphis, TN 38108.
1677 | Ecolab, Inc., 370 North Wabasha Street, St. Paul, MN 55102.
1839 | Stepan Company, 22 W. Frontage Road, Northfield, IL 60093.
2724 | Wellmark International, 1501 E. Woodfield Road, Suite 200 West, Schaumburg, IL 60173.
2935 | Wilbur-Ellis Company, 2903 S. Cedar Avenue, Fresno, CA 93725.
3525 | Qualco Inc., 225 Passaic Street, Passaic, NJ 07055.
5383 | Troy Chemical Corp., 8 Vreeland Road, Florham Park, NJ 07932.
5813 | The Clorox Co., c/o PS&RC, P.O. Box 493, Pleasanton, CA 94566.
6836 | Lonza Inc., 90 Boroline Road, Allendale, NJ 07401.
7173 | Liphatech, Inc., 3600 W. Elm Street, Milwaukee, WI 53209.
7969 | BASF Corporation, Agricultural Products, P.O. Box 13528, Research Triangle Park, NC 27709.
8033 | Nisso America, Inc., Agent for Nippon Soda Co., Ltd., 88 Pine Street, 14th Floor, New York, NY 10005.
10163 | Gowan Company, P.O. Box 5569, Yuma, AZ 85366.
10807 | ZEP, Inc., c/o Compliance Services, Agent for AMREP, Inc., 1529 Seaboard Industrial Blvd. NW., Atlanta, GA 30318.
21164 | Basic Chemicals Company, LLC, 5005 LBJ Freeway, Dallas, TX 75244.
34704 | Loveland Products, Inc., P.O. Box 1286, Greeley, CO 80632.
35935 | Nufarm Americas Inc., 4020 Aerial Center Parkway, Suite 101, Morrisville, NC 27560.
39039 | Y-Tex Corporation, 1825 Big Horn Avenue, Cody, WY 82414.
40849 | ZEP, Inc., c/o Compliance Services, Agent for ZEP Commerical Sales & Service, 1529 Seaboard Industrial Blvd. NW, Atlanta, GA 30318.
50534 | GB Biosciences Corporation, P.O. Box 18300, Greensboro, NC 27419.
59639 | Valent U.S.A. Corporation, 1600 Riviera Avenue, Suite 200, Walnut Creek, CA 94596.
61842 | Pyxis Regulatory Consulting, Inc., Agent for Tessenderlo Kerley, Inc., 4110 136th Street CT NW, Gig Harbor, WA 98332.
62719 | Dow Agrosciences LLC, 9330 Zionsville Road, Indianapolis, IN 46268.
66222 | Makhteshim Agan of North America, Inc., D/B/A Adama, 3120 Highwoods Blvd., Suite 100, Raleigh, NC 27604.
66330 | Arysta Lifescience North America, LLC, 15401 Weston Parkway, Suite 150, Cary, NC 27513.
69681 | Allchem Performance Products, Inc., 6010 NW First Place, Gainesville, FL 32607.
70506 | United Phosphorus, Inc., 630 Freedom Business Center, Suite 402, King Of Prussia, PA 19406.
70596 | Nufarm Americas, Inc., 4020 Aerial Center Parkway, Suite 101, Morrisville, NC 27560.
71512 | ISK Biosciences Corporation, 7470 Auburn Road, Suite A, Concord, OH 44077.
71711 | Nichino America, Inc., 4550 New Linden Hill Road, Suite 501, Wilmington, DE 19808.
81880 | Canyon Group LLC, c/o Gowan Company, 370 S. Main Street, Yuma, AZ 85364.
81927 | Pyxis Regulatory Consulting, Inc., Agent for Alligare, LLC, 4110 136th Street CT NW, Gig Harbor, WA 98332.
87290 | Wagner Regulatory Associates, Inc., Agent for Willowood, LLC, P.O. Box 640, Hockessin, DE 19707.
89459 | Central Garden & Pet Company, 1501 E. Woodfield Road, Suite 200 West, Schaumburg, IL 60173.
90924 | Ecolab, Inc., Agent for Nalco Champion, 370 North Wabasha Street, St. Paul, MN 55102.

III. Summary of Public Comments Received and Agency Response to Comments

During the public comment period provided, EPA received no comments in response to the July 12, 2016 Federal Register notice announcing the Agency's receipt of the requests for voluntary cancellations of products listed in Table 1 of Unit II.

IV. Cancellation Order

Pursuant to FIFRA section 6(f) (7 U.S.C. 136d(f)), EPA hereby approves the requested cancellations of the registrations identified in Table 1 of Unit II. Accordingly, the Agency hereby orders that the product registrations identified in Table 1 of Unit II. are canceled. The effective date of the cancellations that are the subject of this notice is March 22, 2017. Any distribution, sale, or use of existing stocks of the products identified in Table 1 of Unit II. in a manner inconsistent with any of the provisions for disposition of existing stocks set forth in Unit VI. will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of July 12, 2016 (81 FR 45153) (FRL-9948-04). The comment period closed on January 9, 2017.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until January 15, 2016 or the date of publication of this FR notice, whichever is later. Thereafter, the registrants are prohibited from selling or distributing products listed in Table 1, except for export in accordance with FIFRA section 17 (7 U.S.C. 136o), or proper disposal. Persons other than the registrants may sell, distribute, or use existing stocks of products listed in Table 1 of Unit II. until existing stocks are exhausted, provided that such sale, distribution, or use is consistent with the terms of the previously approved labeling on, or that accompanied, the canceled products.

Authority: 7 U.S.C. 136 et seq.

Dated: January 31, 2017.
Delores Barber,
Director, Information Technology and Resources Management Division, Office of Pesticide Programs.

[FR Doc. 2017-05717 Filed 3-21-17; 8:45 am]

BILLING CODE 6560-50-P